DEPARTMENT OF HOMELAND SECURITY

U.S. Citizenship and Immigration Services

[CIS No. 2553-14; DHS Docket No. USCIS-2014-0009]

RIN 1615-ZB34

Designation of Sierra Leone for Temporary Protected Status

AGENCY: U.S. Citizenship and Immigration Services, Department of Homeland Security.

ACTION: Notice.

SUMMARY: Through this Notice, the Department of Homeland Security (DHS) announces that the Secretary of Homeland Security (Secretary) has designated Sierra Leone for Temporary Protected Status (TPS) for a period of 18 months, effective November 21, 2014 through May 21, 2016. Under section 244(b)(1)(C) of the Immigration and Nationality Act (INA), 8 U.S.C. 1254a(b)(1)(C), the Secretary is authorized to designate a foreign state (or any part thereof) for TPS upon finding that the foreign state is experiencing extraordinary and temporary conditions that prevent its nationals from returning in safety and that permitting such aliens to remain temporarily in the United States is not contrary to the national interest.

This designation allows eligible Sierra Leonean nationals (and aliens having no nationality who last habitually resided in Sierra Leone) who have continuously resided in the United States since November 20, 2014 and been continuously physically present in the United States since November 21, 2014 to be granted TPS. This Notice also describes the other eligibility criteria applicants must meet.

Individuals who believe they may qualify for TPS under this designation may apply within the 180-day registration period that begins on November 21, 2014 and ends on May 20, 2015. They may also apply for Employment Authorization Documents (EADs) and for travel authorization. Through this Notice, DHS also sets forth the procedures for nationals of Sierra Leone (or aliens having no nationality who last habitually resided in Sierra Leone) to apply for TPS, EADs, and travel authorization with U.S. Citizenship and Immigration Services (USCIS).

Given the Ebola Virus Disease (EVD)-related basis for the designations of Liberia, Guinea, and Sierra Leone for TPS and ongoing efforts to prevent the spread of EVD, requests for advance travel authorization (“advance parole”) for travel to one or more of these three countries will not be approved, as a matter of discretion, absent extraordinary circumstances. If you depart from the United States without obtaining advance parole or you do not comply with any conditions that may be placed on your advance parole document, you may not be permitted to re-enter the United States. TPS beneficiaries who are granted advance parole to travel to Liberia, Guinea or Sierra Leone are advised that they, like other aliens granted advance parole, are not guaranteed parole into the United States. A separate decision regarding your ability to enter will be made when you arrive at a port-of-entry upon your return. Individuals considering travel outside the United States should visit the Department of State's Web site for the most up-to-date information in Travel Alerts and Warnings and in the Ebola Fact Sheet for Travelers.

DATES: This designation of Sierra Leone for TPS is effective on November 21, 2014 and will remain in effect through May 21, 2016. The 180-day registration period for eligible individuals to submit TPS applications begins November 21, 2014, and will remain in effect through May 20, 2015.

FOR FURTHER INFORMATION CONTACT: • For further information on TPS, including guidance on the application process and additional information on eligibility, please visit the USCIS TPS Web page at http://www.uscis.gov/tps. You can find specific information about this designation of Sierra Leone for TPS by selecting “TPS Designated Country: Sierra Leone” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

DOS—Department of State

EAD—Employment Authorization Document

EVD—Ebola Virus Disease

FNC—Final Nonconfirmation

IJ—Immigration Judge

INA—Immigration and Nationality Act

OSC—U.S. Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

USCIS—U.S. Citizenship and Immigration Services

WHO—World Health Organization

What is Temporary Protected Status (TPS)?

• TPS is a temporary immigration status granted to eligible nationals of a country designated for TPS under the INA, or to eligible persons without nationality who last habitually resided in the designated country.

• During the TPS designation period, TPS beneficiaries are eligible to remain in the United States, may not be removed, and are authorized to work and to obtain EADs, so long as they continue to meet the requirements of TPS.

• TPS beneficiaries may be granted travel authorization as a matter of discretion. Given the EVD-related basis for the designations of Liberia, Guinea, and Sierra Leone for TPS and ongoing efforts to prevent the spread of EVD, requests for advance travel authorization (“advance parole”) for travel to one or more of these three countries will not be approved, as a matter of discretion, absent extraordinary circumstances. If you depart from the United States without obtaining advance parole or you do not comply with any conditions that may be placed on your advance parole document, you may not be permitted to re-enter the United States. TPS beneficiaries who are granted advance parole to travel to Liberia, Guinea or Sierra Leone are advised that they, like other aliens granted advance parole, are not guaranteed parole into the United States. A separate decision regarding your ability to enter will be made when you arrive at a port-of-entry upon your return. Individuals considering travel outside the United States should visit the Department of State's Web site for the most up-to-date information in Travel Alerts and Warnings and in the Ebola Fact Sheet for Travelers.

• The granting of TPS does not result in or lead to permanent resident status.

• When the Secretary terminates a country's TPS designation through a separate Federal Register notice, beneficiaries return to the same immigration status they maintained before TPS, if any (unless that status has since expired or been terminated), or to any other lawfully obtained immigration status they received while registered for TPS.

What authority does the Secretary have to designate Sierra Leone for TPS?

Section 244(b)(1) of the INA, 8 U.S.C. 1254a(b)(1), authorizes the Secretary, after consultation with appropriate U.S. Government agencies, to designate a foreign state (or part thereof) for TPS if the Secretary finds that certain country conditions exist.¹ The Secretary can designate a foreign state for TPS based on one of three circumstances. One circumstance is if “there exist extraordinary and temporary conditions in the foreign state that prevent aliens who are nationals of the state from returning to the state in safety, unless the [Secretary] finds that permitting the aliens to remain temporarily in the United States is contrary to the national interest of the United States.” INA section 244(b)(1)(C), 8 U.S.C. 1254a(b)(1)(C).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

Following the designation of a foreign state for TPS, the Secretary may then grant TPS to eligible nationals of that foreign state (or aliens having no nationality who last habitually resided in that state). See INA section 244(a)(1)(A), 8 U.S.C. 1254a(a)(1)(A). Applicants must demonstrate that they satisfy all eligibility criteria, including that they have been “continuously physically present” in the United States since the effective date of the designation, which is either the date of the Federal Register Notice announcing the designation or such later date as the Secretary may determine, and that they have “continuously resided” in the United States since such date as the Secretary may designate. See INA section 244(a)(1)(A), (b)(2)(A), (c)(1)(A)(i-ii); 8 U.S.C. 1254a(a)(1)(A), (b)(2)(A), (c)(1)(A)(i-ii).

Why is the Secretary designating Sierra Leone for TPS through May 21, 2016?

The Secretary has determined, after consultation with the Department of State (DOS) and other appropriate Government agencies, that there exist extraordinary and temporary conditions in Sierra Leone that prevent Sierra Leonean nationals (and persons having no nationality who last habitually resided in Sierra Leone) from returning in safety. The Secretary also has determined that permitting such aliens to remain temporarily in the United States would not be contrary to the national interest of the United States.

On November 7, 2014 the World Health Organization (WHO) reported that as of November 4, 2014 there had been 13,241 cases of EVD in Guinea, Liberia, and Sierra Leone with 4,950 deaths, making the 2014 EVD epidemic the largest in history. The outbreak began in Guinea in March 2014 and spread to Liberia and Sierra Leone.

The course of the EVD epidemic currently cannot be predicted accurately as cases of EVD continue to rise every day. As of November 4, 2014 there are numerous areas in each of the three countries where transmission continues to occur at high rates. Large scale efforts to control the epidemic in Guinea, Liberia, and Sierra Leone are ongoing to address these hotspots. As of November 4, 2014 WHO reported a total of 4,862 Ebola cases occurring in Sierra Leone, resulting in 1,130 deaths. Ebola is a highly infectious, severe, and acute viral illness with a high fatality rate. Although experimental treatments and vaccines are under development, there are currently no approved vaccines or approved antivirals for treatment of the disease. It is unlikely that a medical vaccine or cure could be produced on a large scale in the near future.

On June 11, 2014, Sierra Leone shut its borders to trade with Liberia and Guinea and closed schools, cinemas, and nightclubs in order to prevent the spread of EVD. On July 30, 2014, the President of Sierra Leone proclaimed a state of public emergency. In order to combat the spread of the virus, the Sierra Leonean Government established new protocols for arriving and departing passengers at Freetown-Lungi International Airport, instituted restrictions on public and other mass gatherings, and implemented quarantine measures and travel restrictions for communities affected by EVD. The Government also required all deaths be reported before burial, authorized police and military personnel to aid in enforcing prevention and control measures, and directed local government officials to establish by-laws to support EVD prevention efforts. Between September 19 and 21, 2014, Sierra Leone's Government instituted a three-day house-to-house search in an attempt to stem the outbreak. The Government declared the search a success based on the discovery of around 100 bodies and 200 suspected patients. On October 5, 2014, a third of Sierra Leone's population is reported to be under official quarantine.

In September 2014, the World Bank predicted that by the end of 2015, Guinea, Sierra Leone, and Liberia could potentially lose a total of $809 million in their economies due to the West African Ebola outbreak. Many countries in the region have closed borders and implemented travel bans to and from Guinea, Liberia, and Sierra Leone.

The EVD epidemic has overwhelmed the already weak health care systems in Liberia and Sierra Leone, and placed Guinea's system under great strain. As of November 4, 2014, the WHO reports that, 545 health care workers are known to have developed EVD (88 in Guinea, 318 in Liberia, 11 in Nigeria, and 128 in Sierra Leone). Three hundred and eleven health care workers have died as a result of EVD infection. Fears of transmission, overcrowding, and inadequate medical and protective supplies have resulted in patients refraining from seeking care and doctors and nurses refusing to work. Individuals in these countries are increasingly unable to get treatment for preventable or treatable conditions, such as malaria, diarrheal diseases, and pregnancy complications. Maternal and child health care is being especially undermined. Attempted containment measures such as cancellation of airline flights, international trade restrictions, and disruption to agriculture threaten future food shortages and have added to the suffering caused by the EVD epidemic.

Based upon this review and after consultation with appropriate Government agencies, the Secretary finds that:

• Sierra Leonean nationals (and persons without nationality who last habitually resided in Sierra Leone) cannot return to Sierra Leone in safety due to extraordinary and temporary conditions. See INA section 244(b)(1)(C), 8 U.S.C. 1254a(b)(1)(C);

• It is not contrary to the national interest of the United States to permit nationals of Sierra Leone (and persons without nationality who last habitually resided in Sierra Leone) who meet the eligibility requirements of TPS to remain in the United States temporarily. See INA section 244(b)(1)(C), 8 U.S.C. 1254a(b)(1)(C);

• The designation of Sierra Leone for TPS will be for an 18-month period from November 21, 2014 through May 21, 2016. See INA section 244(b)(2), 8 U.S.C. 1254a(b)(2);

• Applicants for TPS under the designation of Sierra Leone must demonstrate that they have been continuously residing in the United States since November 20, 2014. See INA section 244(c)(1)(A)(ii), 8 U.S.C. 1254a(c)(1)(A)(ii);

• Applicants for TPS under the designation of Sierra Leone must demonstrate that they have been continuously physically present in the United States since November 21, 2014, the effective date of this designation of Sierra Leone for TPS. See INA section 244(b)(2)(A), (c)(1)(A)(i); 8 U.S.C. 1254a(b)(2)(A), (c)(1)(A)(i); and

• An estimated 2,000 nationals of Sierra Leone (and persons without nationality who last habitually resided in Sierra Leone) are (or are likely to become) eligible for TPS under this designation.

Notice of the Designation of Sierra Leone for TPS

By the authority vested in me as Secretary under INA section 244, 8 U.S.C. 1254a, after consultation with the appropriate U.S. Government agencies, I designate Sierra Leone for TPS under INA section 244(b)(1)(C), 8 U.S.C. 1254a(b)(1)(C), for a period of 18 months from November 21, 2014 through May 21, 2016.

Jeh Charles Johnson,
Secretary.

Required Application Forms and Application Fees To Register for TPS

To register for TPS for Sierra Leone, an applicant must submit each of the following two applications:

1. Application for Temporary Protected Status (Form I-821) with the form fee; and

2. Application for Employment Authorization (Form I-765).

• For administrative purposes, an applicant must submit an Application for Employment Authorization (Form I-765) even if no EAD is requested.

• If you want an EAD you must pay the Application for Employment Authorization (Form I-765) fee only if you are age 14 through 65.

• No application fee for Employment Authorization (Form I-765) is required for an EAD with an initial TPS application if you are under the age of 14 or over the age of 65.

You must submit both completed application forms together. If you are unable to pay the required fees, you may apply for a waiver for these application fees and/or the biometrics services fee described below by completing a Request for Fee Waiver (Form I-912), or submitting a personal letter requesting a fee waiver, and providing satisfactory supporting documentation. For more information on the application forms and fees for TPS, please visit the USCIS TPS Web page at http://www.uscis.gov/tps. Fees for Application for Temporary Protected Status (Form I-821), Application for Employment Authorization (Form I-765), and biometric services are also described in 8 CFR 103.7(b).

Biometric Services Fee

Biometrics (such as fingerprints) are required for all applicants 14 years of age or older. Those applicants must submit a biometric services fee. As previously stated, if you are unable to pay for the biometric services fee, you may request a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a TPS Application After Receiving a Denial of a Fee Waiver Request

If you request a fee waiver when filing your TPS and EAD application forms and your request is denied, you may refile your application packet with the correct fees before the filing deadline of May 20, 2015. If you attempt to submit your application with a fee waiver request before the initial filing deadline, but you receive your application back with the USCIS fee waiver denial, and there are fewer than 45 days before the filing deadline (or the deadline has passed), you may still refile your application within the 45-day period after the date on the USCIS fee waiver denial notice. You must include the correct fees, or file a new fee waiver request. Your application will not be rejected even if the deadline has passed, provided it is mailed within those 45 days and all other required information for the application is included. Please be aware that if you re-file your TPS application packet with a new fee waiver request after the deadline based on this guidance and that new fee waiver request is denied, you cannot re-file again. Note: Alternatively, you may pay the TPS application fee and biometrics fee (if age 14 or older) but wait to request an EAD and pay the EAD application fee after USCIS grants your TPS application.

Mailing Information

Mail your application for TPS to the proper address in Table 1.

Table 1—Mailing Addresses
If you: | Then mail your application to:
Would like to send your application by U.S. Postal Service | USCIS, P.O. Box 6943, Chicago, IL 60680-6943.
Would like to send your application by non-U.S. Postal Service courier | Attn: Sierra Leone TPS, 131 S. Dearborn, 3rd Floor, Chicago, IL 60603-5517.

If you were granted TPS by an Immigration Judge (IJ) or the Board of Immigration Appeals (BIA), and you wish to request an EAD, please mail your application to the address in Table 1. Upon receiving a Receipt Notice from USCIS, please send an email to TPSijgrant.tsc@uscis.dhs.gov with the receipt number stating that you submitted a request for an EAD based on an IJ/BIA grant of TPS as USCIS may not have received records of your grant of TPS by either an IJ or the BIA. This will aid in the verification of your grant and processing of your application. You can find detailed information on what further information you need to email, and email addresses on the USCIS TPS Web page at http://www.uscis.gov/tps.

E-Filing

You cannot electronically file your application packet when applying for initial registration for TPS. Please mail your application packet to the mailing address listed in Table 1.

Supporting Documents

What type of basic supporting documentation must I submit?

To meet the basic eligibility requirements for TPS, you must submit evidence that you:

• Are a national of Sierra Leone or an alien having no nationality who last habitually resided in Sierra Leone. Such documents may include a copy of your passport if available, other documentation issued by the Government of Sierra Leone showing your nationality (e.g., national identity card, official travel documentation issued by the Government of Sierra Leone), and/or your birth certificate with English translation accompanied by photo identification. USCIS will also consider certain forms of secondary evidence supporting your Sierra Leonean nationality. If the evidence presented is insufficient for USCIS to make a determination as to your nationality, USCIS may request additional evidence. If you cannot provide a passport, birth certificate with photo identification, or a national identity document with your photo or fingerprint, you must submit an affidavit showing proof of your unsuccessful efforts to obtain such documents and affirming that you are a national of Sierra Leone. However, please be aware that an interview with an immigration officer will be required if you do not present any documentary proof of identity or nationality or if USCIS otherwise requests a personal appearance. See 8 CFR 103.2(b)(9), 244.9(a)(1);

• Have continuously resided in the United States since November 20, 2014. See INA section 244(c)(1)(A)(ii), 8 U.S.C. 1254a(c)(1)(A)(ii); 8 CFR 244.9(a)(2); and

• Have been continuously physically present in the United States since November 21, 2014, the effective date of the designation of Sierra Leone. See section 244(b)(2)(A), (c)(1)(A)(i) of the INA; 8 U.S.C. 1254a(b)(2)(A), (c)(1)(A)(i).

You must also present two color passport-style photographs of yourself. The filing instructions on the Application for Temporary Protected Status (Form I-821) list all the documents needed to establish basic eligibility for TPS. You may also find information on the acceptable documentation and other requirements for applying for TPS on the USCIS Web site at www.uscis.gov/tps under “TPS Designated Country: Sierra Leone.”

Do I need to submit additional supporting documentation?

If one or more of the questions listed in Part 4, Question 2 of the Application for Temporary Protected Status (Form I-821) applies to you, then you must submit an explanation on a separate sheet(s) of paper and/or additional documentation. Depending on the nature of the question(s) you are addressing, additional documentation alone may suffice, but usually a written explanation will also be needed.

Employment Authorization Document (EAD)

May I request an interim EAD at my local USCIS office?

No. USCIS will not issue interim EADs to TPS applicants at local offices.

When hired, what documentation may I show to my employer as proof of employment authorization and identity when completing Employment Eligibility Verification (Form I-9)?

You can find a list of acceptable document choices on the “List of Acceptable Documents” for Employment Eligibility Verification (Form I-9). You can find additional detailed information on the USCIS I-9 Central Web page at http://www.uscis.gov/I-9Central. Employers are required to verify the identity and employment authorization of all new employees by using the Employment Eligibility Verification (Form I-9). Within 3 days of hire, an employee must present proof of identity and employment authorization to his or her employer.

You may present any document from List A (reflecting both your identity and employment authorization), or one document from List B (reflecting identity) together with one document from List C (reflecting employment authorization). You may present an acceptable receipt for List A, List B, or List C documents as described in the Form I-9 Instructions. An EAD is an acceptable document under “List A.” Employers may not reject a document based on a future expiration date.

Can my employer require that I produce any other documentation to prove my status, such as proof of my Sierra Leonean citizenship?

No. When completing the Employment Eligibility Verification (Form I-9), including re-verifying employment authorization, employers must accept any documentation that appears on the “Lists of Acceptable Documents” for Employment Eligibility Verification (Form I-9) that reasonably appears to be genuine and that relates to you, or an acceptable List A, List B, or List C receipt. Employers may not request documentation that does not appear on the “Lists of Acceptable Documents.” Therefore, employers may not request proof of Sierra Leonean citizenship when completing the Employment Eligibility Verification (Form I-9) for new hires or reverifying the employment authorization of current employees. If presented with EADs that are unexpired on their face, employers should accept such EADs as valid “List A” documents so long as the EADs reasonably appear to be genuine and to relate to the employee. Refer to the “Note to All Employees” section for important information about your rights if your employer rejects lawful documentation, requires additional documentation, or otherwise discriminates against you because of your citizenship or immigration status, or national origin.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process, employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English and many other languages. Employees or applicants may also call the U.S. Department of Justice, Office of Special Counsel for Immigration-Related Unfair Employment Practices (OSC) Worker Information Hotline at 800-255-7688 (TTY 800-237-2515) for information regarding employment discrimination based upon citizenship status, immigration status, or national origin, or for information regarding discrimination related to Employment Eligibility Verification (Form I-9) and E-Verify. The OSC Worker Information Hotline provides language interpretation in numerous languages.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from federal or state government records.

Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). An employee who believes he or she was discriminated against by an employer in the E-Verify process based on citizenship or immigration status, or based on national origin, may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your EAD that has a valid expiration date;

(2) A copy of your Form I-821 Approval Notice (Form I-797), if you receive one from USCIS.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “How to Correct Your Records” from the menu on the right.

[FR Doc. 2014-27778 Filed 11-20-14; 8:45 am]

BILLING CODE 9111-97-P